DEPARTMENT OF COMMERCE

International Trade Administration

[A-821-808; A-823-808]

Certain Cut-to-Length Carbon Steel Plate From the Russian Federation and Ukraine; Final Results of the Expedited Third Sunset Reviews of the Suspension Agreements

AGENCY: Enforcement and Compliance, International Trade Administration, Department of Commerce.

SUMMARY: As a result of these sunset reviews, the Department of Commerce (“the Department”) finds that termination of the suspension agreements on certain cut-to-length carbon steel plate (“CTL plate”) from the Russian Federation (“Russia”) and Ukraine would be likely to lead to continuation or recurrence of dumping. The magnitude of the dumping margins likely to prevail are indicated in the “Final Results of Reviews” section of this notice.

DATES: Effective Date: February 4, 2015.

FOR FURTHER INFORMATION CONTACT: Sally C. Gannon or Judith Wey Rudman, Enforcement and Compliance, International Trade Administration, U.S. Department of Commerce, 14th Street and Constitution Avenue NW., Washington, DC 20230, telephone: (202) 482-0162 or (202) 482-0192.

SUPPLEMENTARY INFORMATION:

History of the Suspension Agreements

On December 3, 1996, the Department initiated antidumping duty investigations under section 732 of the Tariff Act of 1930 (“the Act”) on certain CTL plate from Russia and Ukraine.¹ The Department suspended the antidumping duty investigations on October 24, 1997, on the basis of agreements by the Russian and Ukrainian governments, respectively, to restrict the volume of direct and indirect exports of CTL plate to the United States in order to prevent the suppression or undercutting of price levels of U.S. domestic like products.² Thereafter, the Department continued its investigations and published in the Federal Register its final determinations of sales at less than fair value. In the final determination for Russia, the Department calculated a weighted-average dumping margin of 53.81 percent for JSC Severstal, and 185.00 percent for “all other” Russian manufacturers, producers, and exporters of the subject merchandise.³ In the final determination for Ukraine, the Department calculated weighted-average dumping margins of 81.43 percent for JSC Azovstal Iron & Steel Works, 155.00 percent for JSC Ilyich Iron & Steel Works, and 237.91 percent for “all other” Ukrainian manufacturers, producers, and exporters of the subject merchandise.⁴ Suspension agreements remain in effect for signatory exporters of CTL plate from Russia and Ukraine.⁵

¹ See Initiation of Antidumping Duty Investigations: Certain Cut-To-Length Carbon Steel Plate from the People's Republic of China, Ukraine, the Russian Federation, and the Republic of South Africa, 61 FR 64051 (December 3, 1996).

² See Suspension of Antidumping Duty Investigation: Certain Cut-to-Length Carbon Steel Plate From the Russian Federation, 62 FR 61780 (November 19, 1997); Suspension of Antidumping Duty Investigation: Certain Cut-to-Length Carbon Steel Plate From Ukraine, 62 FR 61766 (November 19, 1997).

³ See Notice of Final Determination of Sales at Less Than Fair Value: Certain Cut-to-Length Carbon Steel Plate From the Russian Federation, 62 FR 61787, 61794 (November 19, 1997) (“Final Russia Determination”).

⁴ See Notice of Final Determination of Sales at Less Than Fair Value: Certain Cut-to-Length Carbon Steel Plate From Ukraine, 62 FR 61754, 61766 (November 19, 1997) (“Final Ukraine Determination”).

⁵ On December 20, 2002, and September 29, 2008, respectively, revised suspension agreements were signed by representatives of Russian and Ukrainian CTL plate producers pursuant to section 734(b) of the Act. These agreements became effective January 23, 2003, and November 1, 2008, respectively, and replaced the previous non-market economy agreements that had been in effect since 1997. See Suspension of Antidumping Duty Investigation of Certain Cut-to-Length Carbon Steel Plate from the Russian Federation, 68 FR 3859 (January 27, 2003); Suspension of Antidumping Duty Investigation: Certain Cut-to-Length Carbon Steel Plate from Ukraine, 73 FR 57602 (October 3, 2008).

Background

On October 1, 2014, the Department published the notice of initiation of sunset reviews of the suspension agreements on CTL plate from Russia and Ukraine, pursuant to section 751(c) of the Act.⁶ Pursuant to 19 CFR 351.218(d)(1)(i), the Department received timely and complete notices of intent to participate in these sunset reviews from SSAB Enterprises LLC (“SSAB”) on October 9, 2014, from ArcelorMittal USA LLC (“ArcelorMittal”) on October 15, 2014, and from Evraz Oregon Steel and Evraz Claymont Steel (collectively, “Evraz”), and Nucor Corporation (“Nucor”), on October 16, 2014. Pursuant to 19 CFR 351.218(d)(3), on October 31, 2014, ArcelorMittal, Nucor, and SSAB (collectively, “domestic interested parties”) jointly filed, and Evraz separately filed, timely, complete and adequate substantive responses in these sunset reviews.⁷ The Department did not receive substantive responses from any respondent interested party. As a result, pursuant to section 751(c)(3)(B) of the Act and 19 CFR 51.218(e)(1)(ii)(C)(2), the Department conducted expedited sunset reviews of these suspension agreements.

⁶ See Initiation of Five-Year (“Sunset”) Review, 79 FR 59216 (October 1, 2014) (Sunset Initiation).

⁷ See “Certain Cut-to-Length Carbon Steel Plate from Russia: Substantive Response to Notice of Initiation” from ArcelorMittal USA, Nucor Corporation, and SSAB Enterprises (“domestic interested parties' response”) dated October 31, 2014; “Certain Cut-to-Length Carbon Steel Plate from Ukraine: Substantive Response to Notice of Initiation” from ArcelorMittal USA, Nucor Corporation, and SSAB Enterprises (“domestic interested parties' response”) dated October 31, 2014; “Certain Cut-to-Length Carbon Steel Plate from the People's Republic of China, the Russian Federation, and Ukraine: Substantive Response from Domestic Producers” from Evraz Oregon Steel and Evraz Claymont Steel (“Evraz response”) dated October 31, 2014.

Scope of Reviews

The products covered by these suspension agreements include hot-rolled iron and non-alloy steel universal mill plates (i.e., flat-rolled products rolled on four faces or in a closed box pass, of a width exceeding 150 mm but not exceeding 1250 mm and of a thickness of not less than 4 mm, not in coils and without patterns in relief), of rectangular shape, neither clad, plated nor coated with metal, whether or not painted, varnished, or coated with plastics or other nonmetallic substances; and certain iron and non-alloy steel flat-rolled products not in coils, of rectangular shape, hot-rolled, neither clad, plated, nor coated with metal, whether or not painted, varnished, or coated with plastics or other nonmetallic substances, 4.75 mm or more in thickness and of a width which exceeds 150 mm and measures at least twice the thickness. Included as subject merchandise in the Suspension Agreements are flat-rolled products of nonrectangular cross-section where such cross-section is achieved subsequent to the rolling process (i.e., products which have been “worked after rolling”) for example, products which have been beveled or rounded at the edges. This merchandise is currently classified in the Harmonized Tariff Schedule of the United States (HTS) under item numbers 7208.40.3030, 7208.40.3060, 7208.51.0030, 7208.51.0045, 7208.51.0060, 7208.52.0000, 7208.53.0000, 7208.90.0000, 7210.70.3000, 7210.90.9000, 7211.13.0000, 7211.14.0030, 7211.14.0045, 7211.90.0000, 7212.40.1000, 7212.40.5000, and 7212.50.0000. Although the HTS subheadings are provided for convenience and customs purposes, the written description of the scope of the Agreements is dispositive. Specifically excluded from subject merchandise within the scope of these Agreements is grade X-70 steel plate.

Analysis of Comments Received

A complete discussion of all issues raised in these sunset reviews is provided in the accompanying issues and decision memoranda.⁸ The issues discussed in the I&D memoranda include the likelihood of continuation or recurrence of dumping and the magnitude of the dumping margins likely to prevail if the suspension agreements are terminated. The I&D memoranda are public documents and are on file electronically via Enforcement and Compliance's Antidumping and Countervailing Duty Centralized Electronic Service System (“ACCESS”). ACCESS is available to registered users at http://access.trade.gov and is available in the Central Records Unit, room 7046 of the main Department of Commerce building. In addition, a complete version of the I&D memoranda can be accessed directly on the Web at http://enforcement.trade.gov/frn. The signed I&D memoranda and the electronic versions of the I&D memoranda are identical in content.

⁸ See “Issues and Decision Memorandum for the Expedited Third Sunset Review of the Agreement Suspending the Antidumping Duty Investigation of Certain Cut-to-Length Carbon Steel Plate from the Russian Federation,” from Lynn Fischer Fox, Deputy Assistant Secretary for Policy and Negotiations, to Paul Piquado, Assistant Secretary for Enforcement and Compliance, dated concurrently with and hereby adopted by this notice; “Issues and Decision Memorandum for the Expedited Third Sunset Review of the Agreement Suspending the Antidumping Duty Investigation of Certain Cut-to-Length Carbon Steel Plate from Ukraine,” from Lynn Fischer Fox, Deputy Assistant Secretary for Policy and Negotiations, to Paul Piquado, Assistant Secretary for Enforcement and Compliance, dated concurrently with and hereby adopted by this notice (collectively, “I&D memoranda”).

Final Results of Reviews

Pursuant to section 752(c) of the Act, the Department determines that termination of the suspension agreements on CTL plate from Russia and Ukraine would likely lead to continuation or recurrence of dumping at weighted-average margins up to 185.00 percent for Russia and up to 237.91 percent for Ukraine.⁹

⁹ See Final Russia Determination and Final Ukraine Determination.

Notification Regarding Administrative Protective Orders

This notice also serves as the only reminder to parties subject to administrative protective orders (“APO”) of their responsibility concerning the return or destruction of proprietary information disclosed under APO in accordance with 19 CFR 351.305. Timely notification of the return or destruction of APO materials or conversion to judicial protective orders is hereby requested. Failure to comply with the regulations and terms of an APO is a violation which is subject to sanction.

We are issuing and publishing these results and notice in accordance with sections 751(c), 752(c), and 777(i)(1) of the Act and 19 CFR 351.218.

Dated: January 29, 2015.
Ronald K. Lorentzen,
Acting Assistant Secretary for Enforcement and Compliance.

[FR Doc. 2015-02201 Filed 2-3-15; 8:45 am]

BILLING CODE 3510-DS-P